DEPARTMENT OF HOMELAND SECURITY

Federal Emergency Management Agency

44 CFR Part 67

[FEMA Docket No. D-7642]

Withdrawal of Final Flood Elevation Determination for the Listed Communities in Yuma and Coconino Counties, AZ

AGENCY: Federal Emergency Management Agency (FEMA), Department of Homeland Security (DHS).

ACTION: Final rule; withdrawal.

SUMMARY: The Federal Emergency Management Agency (FEMA) withdraws the final flood elevation determination published in 71 FR 33647, June 12, 2006 for the Unincorporated Areas of Yuma County and Cities of San Luis and Yuma, and the Unincorporated Areas of Coconino County, and City of Flagstaff, Arizona, hereafter referred to as “listed communities.” A final flood elevation determination will be made at a later date.

DATES: Effective Date: This rule is effective September 20, 2006.

FOR FURTHER INFORMATION CONTACT: William R. Blanton, Jr., CFM, Chief, Engineering Management Section, Mitigation Division, 500 C Street, SW., Washington, DC 20472, (202) 646-3151.

SUPPLEMENTARY INFORMATION: On March 29, 2006, FEMA issued a letter to the Unincorporated Areas of Yuma County and Cities of San Luis and Yuma, and the Unincorporated Areas of Coconino County, and City of Flagstaff, Arizona, hereafter referred to as “listed communities” finalizing the flood elevation determinations. In addition, the March 29, 2006 letter established a September 29, 2006, effective date for the Flood Insurance Study (FIS) and Flood Insurance Rate Map (FIRM) for the listed communities. During the final processing of the FIS and FIRM it was determined that there are levee structures within the listed counties that are shown as providing protection against the 1% annual chance flood event. FEMA will only recognize those levee systems that meet, and continue to meet, minimum design, operation, and maintenance standards. 44 CFR 65.10 describes the information needed to recognize whether a levee system provides protection from the base flood event. The required information must be supplied to FEMA by the community or other party seeking recognition of the levee system. To acquire FEMA's recognition that a levee system protects an area against the base flood event, a community or levee owner must supply FEMA with such data as certification and design criteria (including information on freeboard, closures, embankment protection, embankment and foundation stability, settlement, interior drainage, etc.), and operation and maintenance plans.

Until the aforementioned levee information is submitted to FEMA, the final flood elevation published in 71 FR 33647, June 12, 2006 for the listed communities is hereby withdrawn in accordance with section 110 of the Flood Disaster Protection Act of 1973, 42 U.S.C. 4104. Until further notice, the release of the FIS and FIRM for the listed communities has been postponed.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended to withdraw the following:

The final flood elevation determination published in 71 FR 33647, June 12, 2006 for the Unincorporated Areas of Yuma County and Cities of San Luis and Yuma, and the Unincorporated Areas of Coconino County, and City of Flagstaff, Arizona.

Dated: September 13, 2006.
David I. Maurstad,
Director, Mitigation Division, Federal Emergency Management Agency, Department of Homeland Security.

[FR Doc. 06-7808 Filed 9-19-06; 8:45 am]

BILLING CODE 9110-12-P